DEPARTMENT OF HOMELAND SECURITY

Federal Emergency Management Agency

[Docket ID FEMA-2024-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Date of modification | Community No.
Arizona:
Coconino (FEMA Docket No.: B-2349). | Unincorporated Areas of Coconino County (22-09-1015P). | The Honorable Patrice Horstman, Chair, Board of Supervisors, Coconino County, 219 East Cherry Avenue, Flagstaff, AZ 86001. | Coconino County Flood Control District, 5600 East Commerce Avenue, Flagstaff, AZ 86004. | Aug. 31, 2023 | 040019
Maricopa (FEMA Docket No.: B-2349). | City of Glendale (23-09-0136P). | The Honorable Jerry P. Weiers, Mayor, City of Glendale, 5850 West Glendale Avenue, Suite 451, Glendale, AZ 85301. | City Hall, 5850 West Glendale Avenue, Glendale, AZ 85301. | Aug. 25, 2023 | 040045
Maricopa (FEMA Docket No.: B-2349). | City of Goodyear (22-09-1721P). | The Honorable Joe Pizzillo, Mayor, City of Goodyear 1900 North Civic Square Goodyear, AZ 85395. | Engineering and Development Services, 14455 West Van Buren Street, Suite D101, Goodyear, AZ 85338. | Aug. 18, 2023 | 040046
Maricopa (FEMA Docket No.: B-2349). | City of Peoria (23-09-0064P). | The Honorable Jason Beck, Mayor, City of Peoria, 8401 West Monroe Street, Peoria, AZ 85345. | City Hall, 8401 West Monroe Street, Peoria, AZ 85345. | Sep. 8, 2023 | 040050
Maricopa (FEMA Docket No.: B-2338). | City of Phoenix (22-09-0280P). | The Honorable Kate Gallego, Mayor, City of Phoenix, City Hall, 200 West Washington Street, Phoenix, AZ 85003. | Street Transportation Department, 200 West Washington Street, 5th Floor, Phoenix, AZ 85003. | Jul. 28, 2023 | 040051
Maricopa (FEMA Docket No.: B-2349). | City of Phoenix (22-09-0990P). | The Honorable Kate Gallego, Mayor, City of Phoenix, City Hall, 200 West Washington Street, 11th Floor, Phoenix, AZ 85003. | Street Transportation Department, 200 West Washington Street, 5th Floor, Phoenix, AZ 85003. | Sep. 1, 2023 | 040051
Maricopa (FEMA Docket No.: B-2338). | City of Phoenix (22-09-1725P). | The Honorable Kate Gallego, Mayor, City of Phoenix, City Hall, 200 West Washington Street, Phoenix, AZ 85003. | Street Transportation Department, 200 West Washington Street, 5th Floor, Phoenix, AZ 85003. | Jul. 28, 2023 | 040051
Maricopa (FEMA Docket No.: B-2338). | City of Surprise (22-09-0693P). | The Honorable Skip Hall, Mayor, City of Surprise, 16000 North Civic Center Plaza, Surprise, AZ 85374. | Public Works Department, Engineering Development Services, 16000 North Civic Center Plaza, Surprise, AZ 85374. | Aug. 4, 2023 | 040053
Maricopa (FEMA Docket No.: B-2349). | City of Surprise (23-09-0148P). | The Honorable Skip Hall, Mayor, City of Surprise, 16000 North Civic Center Plaza, Surprise, AZ 85374. | Public Works Department, Engineering Development Services, 16000 North Civic Center Plaza, Surprise, AZ 85374. | Sep. 22, 2023 | 040053
Maricopa (FEMA Docket No.: B-2349). | Town of Fountain Hills (22-09-1367P). | The Honorable Ginny Dickey, Mayor, Town of Fountain Hills, 16705 East Avenue of the Fountains, Fountain Hills, AZ 85268. | Town Hall, 16705 East Avenue of the Fountains, Fountain Hills, AZ 85268. | Sep. 21, 2023 | 040135
Maricopa (FEMA Docket No.: B-2349). | Unincorporated Areas of Maricopa County (22-09-0990P). | The Honorable Clint L. Hickman, Chair, Board of Supervisors, Maricopa County, 301 West Jefferson Street, 10th Floor, Phoenix, AZ 85003. | Flood Control District of Maricopa County, 2801 West Durango Street, Phoenix, AZ 85009. | Sep. 1, 2023 | 040037
Maricopa (FEMA Docket No.: B-2349). | Unincorporated Areas of Maricopa County (23-09-0136P). | The Honorable Clint L. Hickman, Chair, Board of Supervisors, Maricopa County, 301 West Jefferson Street, 10th Floor, Phoenix, AZ 85003. | Flood Control District of Maricopa County, 2801 West Durango Street, Phoenix, AZ 85009. | Aug. 25, 2023 | 040037
Maricopa (FEMA Docket No.: B-2349). | Unincorporated Areas of Maricopa County (23-09-0148P). | The Honorable Clint L. Hickman, Chair, Board of Supervisors, Maricopa County, 301 West Jefferson Street, 10th Floor, Phoenix, AZ 85003. | Flood Control District of Maricopa County, 2801 West Durango Street, Phoenix, AZ 85009. | Sep. 22, 2023 | 040037
Mohave (FEMA Docket No.: B-2349). | City of Lake Havasu City (23-09-0066P). | The Honorable Cal Sheehy, Mayor, City of Lake Havasu City, 2330 McCulloch Boulevard North, Lake Havasu City, AZ 86403. | City Hall, 2330 McCulloch Boulevard North, Lake Havasu City, AZ 86403. | Sep. 14, 2023 | 040116
Pima (FEMA Docket No.: B-2349). | Town of Marana (21-09-1382P). | The Honorable Ed Honea, Mayor, Town of Marana, 11555 West Civic Center Drive, Marana, AZ 85653. | Engineering Department, Marana Municipal Complex, 11555 West Civic Center Drive, Marana, AZ 85653. | Aug. 18, 2023 | 040118
Pima (FEMA Docket No.: B-2338). | Town of Marana (22-09-0176P). | The Honorable Ed Honea, Mayor, Town of Marana, 11555 West Civic Center Drive, Marana, AZ 85653. | Engineering Department, Marana Municipal Complex, 11555 West Civic Center Drive, Marana, AZ 85653. | Jul. 14, 2023 | 040118
Pima (FEMA Docket No.: B-2358). | Town of Marana (23-09-0611P). | The Honorable Ed Honea, Mayor, Town of Marana, 11555 West Civic Center Drive, Marana, AZ 85653. | Engineering Department, Marana Municipal Complex, 11555 West Civic Center Drive, Marana, AZ 85653. | Oct. 23, 2023 | 040118
Pima (FEMA Docket No.: B-2349). | Unincorporated Areas of Pima County (21-09-1382P). | The Honorable Adelita Grijalva, Chair, Board of Supervisors, Pima County, 33 North Stone Avenue 11th Floor, Tucson, AZ 85701. | Pima County Flood Control District, 201 North Stone Avenue, 9th Floor, Tucson, AZ 85701. | Aug. 18, 2023 | 040073
Yavapai (FEMA Docket No.: B-2358). | Unincorporated Areas of Yavapai County (22-09-1395P). | The Honorable James Gregory, Chair, Board of Supervisors, Yavapai County, 1015 Fair Street, 3rd Floor, Prescott, AZ 86305. | Yavapai County Flood Control District, 1120 Commerce Drive, Prescott, AZ 86305. | Sep. 14, 2023 | 040093
California:
Contra Costa (FEMA Docket No.: B-2349). | Unincorporated Areas of Contra Costa County (22-09-1286P). | The Honorable John M. Gioia, Chair, Board of Supervisors, Contra Costa County, 11780 San Pablo Avenue, Suite D, El Cerrito, CA 94530. | Contra Costa County, Public Works Department, 255 Glacier Drive, Martinez, CA 94553. | Aug. 25, 2023 | 060025
Los Angeles (FEMA Docket No.: B-2358). | City of Malibu (23-09-0599P). | The Honorable Paul Grisanti, Mayor, City of Malibu, 23825 Stuart Ranch Road, Malibu, CA 90265. | City Hall, 23825 Stuart Ranch Road, Malibu, CA 90265. | Oct. 20, 2023 | 060745
Los Angeles (FEMA Docket No.: B-2358). | Unincorporated Areas of Los Angeles County (23-09-0599P). | The Honorable Janice Hahn, Chair, Board of Supervisors, Los Angeles County, 500 West Temple Street, Room 822, Los Angeles, CA 90012. | Los Angeles County Public Works Headquarters, Watershed Management Division, 900 South Fremont Avenue, Alhambra, CA 91803. | Oct. 20, 2023 | 065043
Marin (FEMA Docket No.: B-2338). | City of Novato (22-09-0167P). | The Honorable Susan Wernick, Mayor, City of Novato, 922 Machin Avenue, Novato, CA 94945. | Public Works Department, 922 Machin Avenue, Novato, CA 94945. | Aug. 4, 2023 | 060178
Placer (FEMA Docket No.: B-2338). | City of Rocklin (21-09-1531P). | The Honorable Ken Broadway, Mayor, City of Rocklin, 3970 Rocklin Road, Rocklin, CA 95677. | Engineering Department, 3970 Rocklin Road, Rocklin, CA 95677. | Aug. 14, 2023 | 060242
Placer (FEMA Docket No.: B-2349). | City of Lincoln (22-09-0399P). | The Honorable Paul Joiner, Mayor, City of Lincoln, 600 6th Street, Lincoln, CA 95648. | Community Development Department, 600 6th Street, Lincoln, CA 95648. | Sep. 22, 2023 | 060241
Placer (FEMA Docket No.: B-2349). | Unincorporated Areas of Placer County (22-09-0399P). | The Honorable Jim Holmes, Chair, Board of Supervisors, Placer County, 175 Fulweiler Avenue, Auburn, CA 95603. | Placer County Public Works, 3091 County Center Drive, Suite 220, Auburn, CA 95603. | Sep. 22, 2023 | 060239
Riverside (FEMA Docket No.: B-2338). | City of Lake Elsinore (22-09-1014P). | The Honorable Natasha Johnson, Mayor, City of Lake Elsinore, 130 South Main Street, Lake Elsinore, CA 92530. | Engineering Division, 130 South Main Street, Lake Elsinore, CA 92530. | Aug. 18, 2023 | 060636
Riverside (FEMA Docket No.: B-2358). | City of Menifee (22-09-1724P). | The Honorable Bill Zimmerman, Mayor, City of Menifee, 29844 Haun Road, Menifee, CA 92586. | Public Works and Engineering Department, 29714 Haun Road, Menifee, CA 92586. | Oct. 20, 2023 | 060176
Riverside (FEMA Docket No.: B-2349). | City of Moreno Valley (23-09-0026P). | The Honorable Ulises Cabrera, Mayor, City of Moreno Valley, 14177 Frederick Street, Moreno Valley, CA 92553. | Public Works Department, 14177 Frederick Street, Moreno Valley, CA 92552. | Sep. 12, 2023 | 065074
Riverside (FEMA Docket No.: B-2358). | City of Norco (22-09-1188P). | The Honorable Robin Grundmeyer, Mayor, City of Norco, 2870 Clark Avenue, Norco, CA 92860. | City Hall, 2870 Clark Avenue, Norco, CA 92860. | Oct. 13, 2023 | 060256
Riverside (FEMA Docket No.: B-2358). | City of Perris (22-09-1745P). | The Honorable Michael Vargas, Mayor, City of Perris, 101 North D Street, Perris, CA 92570. | Engineering Department, 24 South D Street, Suite 100, Perris, CA 92570. | Oct. 16, 2023 | 060258
San Bernardino (FEMA Docket No.: B-2349). | City of Colton (22-09-0164P). | The Honorable Frank J. Navarro, Mayor, City of Colton, 650 North La Cadena Drive, Colton, CA 92324. | Public Works Department, 160 South 10th Street, Colton, CA 92324. | Aug. 25, 2023 | 060273
San Bernardino (FEMA Docket No.: B-2349). | City of Grand Terrace (22-09-0164P). | The Honorable Bill Hussey, Mayor, City of Grand Terrace, 22795 Barton Road, Grand Terrace, CA 92313. | City Hall, 22795 Barton Road, Grand Terrace, CA 92313. | Aug. 25, 2023 | 060737
San Bernardino (FEMA Docket No.: B-2358). | City of Rancho Cucamonga (22-09-0746P). | The Honorable L. Dennis Michael, Mayor, City of Rancho Cucamonga, 10500 Civic Center Drive, Rancho Cucamonga, CA 91730. | City Hall, Engineering Department Plaza Level, 10500 Civic Center Drive, Rancho Cucamonga, CA 91730. | Oct. 2, 2023 | 060671
San Bernardino (FEMA Docket No.: B-2349). | City of Yucaipa (23-09-0131P). | The Honorable Justin Beaver, Mayor, City of Yucaipa, 34272 Yucaipa Boulevard, Yucaipa, CA 92399. | City Hall, 34272 Yucaipa Boulevard, Yucaipa, CA 92399. | Sep. 11, 2023 | 060739
San Bernardino (FEMA Docket No.: B-2358). | Unincorporated Areas of San Bernardino County (21-09-1996P). | The Honorable Dawn Rowe, Chair, Board of Supervisors, San Bernardino County, 385 North Arrowhead Avenue, 5th Floor, San Bernardino, CA 92415. | San Bernardino County Public Works, Water Resources Department, 825 East 3rd Street, San Bernardino, CA 92415. | Oct. 11, 2023 | 060270
San Bernardino (FEMA Docket No.: B-2349). | Unincorporated Areas of San Bernardino County (23-09-0659X). | The Honorable Dawn Rowe, Chair, Board of Supervisors, San Bernardino County, 385 North Arrowhead Avenue, 5th Floor, San Bernardino, CA 92415. | San Bernardino County Public Works, Water Resources Department, 825 East 3rd Street, San Bernardino, CA 92415. | Aug. 17, 2023 | 060270
San Diego (FEMA Docket No.: B-2349). | City of Oceanside (22-09-0347P). | The Honorable Esther C. Sanchez, Mayor, City of Oceanside, 300 North Coast Highway, Oceanside, CA 92054. | City Hall, 300 North Coast Highway, Oceanside, CA 92054. | Oct. 4, 2023 | 060294
San Diego (FEMA Docket No.: B-2349). | City of San Diego (23-09-0195P). | The Honorable Todd Gloria, Mayor, City of San Diego, 202 C Street, 11th Floor, San Diego, CA 92101. | Development Services Department, 1222 1st Avenue, MS 301, San Diego, CA 92101. | Aug. 22, 2023 | 060295
San Diego (FEMA Docket No.: B-2358). | Unincorporated Areas of San Diego County (23-09-0045P). | The Honorable Nora Vargas, Chair, Board of Supervisors, San Diego County, 1600 Pacific Highway, Room 335, San Diego, CA 92101. | San Diego County Flood Control District, Department of Public Works, 5510 Overland Avenue, Suite 410, San Diego, CA 92123. | Oct. 2, 2023 | 060284
San Joaquin (FEMA Docket No.: B-2349). | Unincorporated Areas of San Joaquin County (22-09-0749P). | The Honorable Robert Rickman, Chair, Board of Supervisors, San Joaquin County, 44 North San Joaquin Street, Stockton, CA 95202. | San Joaquin County, Public Works Department, 1810 East Hazelton Avenue, Stockton, CA 95205. | Sep. 11, 2023 | 060299
Santa Barbara (FEMA Docket No.: B-2338). | City of Santa Barbara (21-09-1771P). | The Honorable Randy Rowse, Mayor, City of Santa Barbara, City Hall, 735 Anacapa Street, Santa Barbara, CA 93101. | Community Development Department, Building and Safety Division, 630 Garden Street, Santa Barbara, CA 93101. | Aug. 1, 2023 | 060335
Sonoma (FEMA Docket No.: B-2349). | City of Petaluma (22-09-1356P). | The Honorable Kevin McDonnell, Mayor, City of Petaluma, 11 English Street, Petaluma, CA 94952. | Community Development Department, 11 English Street, Petaluma, CA 94952. | Sep. 25, 2023 | 060379
Ventura (FEMA Docket No.: B-2338). | City of Simi Valley (22-09-0986P). | The Honorable Fred D. Thomas, Mayor, City of Simi Valley, 2929 Tapo Canyon Road, Simi Valley, CA 93063. | City Hall, 2929 Tapo Canyon Road, Simi Valley, CA 93063. | Jul. 12, 2023 | 060421
Florida:
Bay (FEMA Docket No.: B-2358). | City of Panama City Beach (22-04-3762P). | The Honorable Mark Sheldon, Mayor, City of Panama City Beach, City Hall, 17007 Panama City Beach Parkway, Panama City Beach, FL 32413. | City Hall, 110 South Arnold Road, Panama City Beach, FL 32413. | Oct. 25, 2023 | 120013
Bay (FEMA Docket No.: B-2358). | Unincorporated Areas of Bay County (22-04-3762P). | Philip Griffitts, Chair, Board of Bay County Commissioners, 840 West 11th Street, Panama City, FL 32401. | Bay County Planning and Zoning, 707 Jenks Avenue, Suite B, Panama City, FL 32401. | Oct. 25, 2023 | 120004
Clay (FEMA Docket No.: B-2358). | Unincorporated Areas of Clay County (23-04-0201P). | Howard Wanamaker, County Manager, Clay County, P.O. Box 1366, Green Cove Springs, FL 32043. | Clay County, Public Works Department, 5 Esplanade Avenue, Green Cove Springs, FL 32043. | Oct. 20, 2023 | 120064
St. Johns (FEMA Docket No.: B-2349). | Unincorporated Areas of St. Johns County (22-04-2936P). | Christian Whitehurst, Chair, Board of St. Johns County Commissioners, 500 San Sebastian View, St. Augustine, FL 32084. | St. Johns County Permit Center, 4040 Lewis Speedway, St. Augustine, FL 32084. | Sep. 22, 2023 | 125147
Idaho:
Bingham (FEMA Docket No.: B-2349). | Unincorporated Areas of Bingham County (22-10-0778P). | Whitney Manwaring, Chair, Bingham County Commissioners, 501 North Maple Street #204, Blackfoot, ID 83221. | Bingham County Department of Planning and Zoning, 501 North Maple Street #203, Blackfoot, ID 83221. | Aug. 24, 2023 | 160018
Bonneville (FEMA Docket No.: B-2349). | Unincorporated Areas of Bonneville County (22-10-0778P). | Roger Christensen, Chair, Bonneville County Board of Commissioners, 605 North Capital Avenue, Idaho Falls, ID 83402. | Bonneville County Courthouse, 605 North Capital Avenue, Idaho Falls, ID 83402. | Aug. 24, 2023 | 160027
Madison (FEMA Docket No.: B-2338). | City of Rexburg (22-10-0382P). | The Honorable Jerry Merrill, Mayor, City of Rexburg, 35 North 1st East, Rexburg, ID 83440. | City Hall, 12 North Center Street, Rexburg, ID 83440. | Aug. 14, 2023 | 160098
Madison (FEMA Docket No.: B-2338). | Unincorporated Areas of Madison County (22-10-0382P). | Todd Smith, Chair, Madison County Commissioners, 134 East Main Street, Rexburg, ID 83440. | Madison County Courthouse, 159 East Main Street, Rexburg, ID 83440. | Aug. 14, 2023 | 160217
Illinois:
Cook (FEMA Docket No.: B-2358). | City of Oak Forest (22-05-2765P). | The Honorable Henry Kuspa, Mayor, City of Oak Forest, 15440 South Central Avenue, Oak Forest, IL 60452. | City Hall, 15440 South Central Avenue, Oak Forest, IL 60452. | Oct. 23, 2023 | 170136
Cook (FEMA Docket No.: B-2358). | Unincorporated Areas of Cook County (22-05-2765P). | Toni Preckwinkle, President, Cook County Board of Commissioners, 118 North Clark Street, Room 537, Chicago, IL 60602. | Cook County Building and Zoning Department, 69 West Washington Street, 28th Floor, Chicago, IL 60602. | Oct. 23, 2023 | 170054
Kane (FEMA Docket No.: B-2365). | Village of Huntley (23-05-0909P). | Timothy J. Hoeft, Village President, Village of Huntley, 10987 Main Street, Huntley, IL 60142. | Village Hall, Engineering Department, 10987 Main Street, Huntley, IL 60142. | Nov. 13, 2023 | 170480
Indiana:
Allen (FEMA Docket No.: B-2358). | City of Fort Wayne (22-05-1754P). | The Honorable Tom Henry, Mayor, City of Fort Wayne, City Hall, 200 East Berry Street, Suite 470, Fort Wayne, IN 46802. | Department of Planning Services, 200 East Berry Street, Suite 150, Fort Wayne, IN 46802. | Oct. 5, 2023 | 180003
Allen (FEMA Docket No.: B-2358). | Unincorporated Areas of Allen County (22-05-1754P). | F. Nelson Peters, Commissioner, Allen County Board of Commissioners, Citizens Square, 200 East Berry Street, Suite 410, Fort Wayne, IN 46802. | Allen County Department of Planning Services, 200 East Berry Street, Suite 150, Fort Wayne, IN 46802. | Oct. 5, 2023 | 180302
Iowa:
Dallas (FEMA Docket No.: B-2338). | City of Granger (22-07-0836P). | The Honorable Tony James, Mayor, City of Granger, City Hall, 1906 Main Street, Granger, IA 50109. | City Hall, 1906 Main Street, Granger, IA 50109. | Jun. 23, 2023 | 190104
Polk (FEMA Docket No.: B-2338). | Unincorporated Areas of Polk County (22-07-0774P). | Angela Connolly, County Chair, Polk County, Polk County Administration Building, 111 Court Avenue, Room 300, Des Moines, IA 50309. | Polk County Public Works, 5885 Northeast 14th Street, Des Moines, IA 50313. | Aug. 8, 2023 | 190901
Kansas: Johnson (FEMA Docket No.: B-2358). | City of Shawnee (22-07-1041P). | The Honorable Michelle Distler, Mayor, City of Shawnee, City Hall, 11110 Johnson Drive, Shawnee, KS 66203. | City Hall, 11110 Johnson Drive, Shawnee, KS 66203. | Aug. 30, 2023 | 200177
Michigan:
Kent (FEMA Docket No.: B-2338). | Charter Township of Gaines (22-05-2589P). | Robert DeWard, Supervisor, Charter Township of Gaines, 8555 Kalamazoo Avenue Southeast, Caledonia, MI 49316. | Township Office, 8555 Kalamazoo Avenue Southeast, Caledonia, MI 49316. | Jul. 7, 2023 | 260990
Kent (FEMA Docket No.: B-2338). | Charter Township of Plainfield (22-05-2589P). | Tom Coleman, Supervisor, Charter Township of Plainfield, 6161 Belmont Avenue Northeast, Belmont, MI 49306. | Township Center, 6161 Belmont Avenue Northeast, Belmont, MI 49306. | Jul. 7, 2023 | 260109
Kent (FEMA Docket No.: B-2338). | City of Grand Rapids (22-05-2589P). | The Honorable Rosalynn Bliss, Mayor, City of Grand Rapids, 300 Monroe Avenue Northwest, Grand Rapids, MI 49503. | City Hall, 300 Monroe Avenue Northwest, Grand Rapids, MI 49503. | Jul. 7, 2023 | 260106
Kent (FEMA Docket No.: B-2338). | City of Grandville (22-05-2589P). | The Honorable Steve Maas, Mayor, City of Grandville, 3195 Wilson Avenue Southwest, Grandville, MI 49418. | City Hall, 3195 Wilson Avenue Southwest, City of Grandville, MI 49418. | Jul. 7, 2023 | 260271
Kent (FEMA Docket No.: B-2338). | City of Kentwood (22-05-2589P). | The Honorable Stephen Kepley, Mayor, City of Kentwood, P.O. Box 8848, Kentwood, MI 49508. | City Hall, 4900 Breton Avenue Southeast, Kentwood, MI 49508. | Jul. 7, 2023 | 260107
Kent (FEMA Docket No.: B-2338). | City of Walker (22-05-2589P). | The Honorable Gary Carey, Mayor, City of Walker, 4243 Remembrance Road Northwest, Walker, MI 49534. | City Hall, 4243 Remembrance Road Northwest, Walker, MI 49534. | Jul. 7, 2023 | 260110
Kent (FEMA Docket No.: B-2338). | City of Wyoming (22-05-2589P). | The Honorable Jack Poll, Mayor, City of Wyoming, P.O. Box 905, Wyoming, MI 49509. | City Hall, 1155 28th Street Southwest, Wyoming, MI 49509. | Jul. 7, 2023 | 260111
Kent (FEMA Docket No.: B-2338). | Township of Alpine (22-05-2589P). | Greg Madura, Supervisor, Township of Alpine, 5255 Alpine Avenue Northwest, Comstock Park, MI 49321. | Township Municipal Building, 5255 Alpine Avenue Northwest, Comstock Park, MI 49321. | Jul. 7, 2023 | 260961
Kent (FEMA Docket No.: B-2338). | Township of Cannon (22-05-2589P). | Steve Grimm, Supervisor, Township of Cannon, 6878 Belding Road, Rockford, MI 49341. | Township Center, 6878 Belding Road, Rockford, MI 49341. | Jul. 7, 2023 | 260734
Oakland (FEMA Docket No.: B-2358). | City of Troy (23-05-0001P). | The Honorable Ethan Baker, Mayor, City of Troy, 500 West Big Beaver Road, Troy, MI 48084. | City Hall, 500 West Big Beaver Road, Troy, MI 48084. | Sep. 22, 2023 | 260180
Minnesota:
Dakota (FEMA Docket No.: B-2349). | City of Lakeville (22-05-2756P). | The Honorable Luke Hellier, Mayor, City of Lakeville, 20195 Holyoke Avenue, Lakeville, MN 55044. | City Hall, 20195 Holyoke Avenue, Lakeville, MN 55044. | Sep. 5, 2023 | 270107
Dakota (FEMA Docket No.: B-2358). | Unincorporated Areas of Dakota County (22-05-3188P). | Matt Smith, Manager, Dakota County, 1590 Highway 55, Hastings, MN 55033. | Dakota County Administration Center, 1590 Highway 55, Hastings, MN 55033. | Oct. 30, 2023 | 270101
Mower (FEMA Docket No.: B-2349). | City of Austin (21-05-3696P). | The Honorable Steve King, Mayor, City of Austin, 500 4th Avenue Northeast, Austin, MN 55912. | City Hall, 500 4th Avenue Northeast, Austin, MN 55912. | Sep. 15, 2023 | 275228
Mower (FEMA Docket No.: B-2349). | Unincorporated Areas of Mower County (21-05-3696P). | Jeff Baldus, Chair, Mower County Board of Commissioners, 201 1st Street Northeast, Austin, MN 55912. | Mower County Government Center, 201 1st Street Northeast, Austin, MN 55912. | Sep. 15, 2023 | 270307
Nevada:
Clark (FEMA Docket No.: B-2358). | City of North Las Vegas (23-09-0579P). | The Honorable Pamela Goynes-Brown, Mayor, City of North Las Vegas, 2250 Las Vegas Boulevard North, Suite 910, North Las Vegas, NV 89030. | Public Works Department, 2250 Las Vegas Boulevard North, Suite 200, North Las Vegas, NV 89030. | Oct. 18, 2023 | 320007
Clark (FEMA Docket No.: B-2349). | Unincorporated Areas of Clark County (23-09-0077P). | The Honorable James B. Gibson, Chair, Board of Commissioners, Clark County, 500 South Grand Central Parkway, 6th Floor, Las Vegas, NV 89155. | Clark County, Office of the Director of Public Works, 500 South Grand Central Parkway, 2nd Floor, Las Vegas, NV 89155. | Aug. 22, 2023 | 320003
Washoe (FEMA Docket No.: B-2338). | Unincorporated Areas of Washoe County (22-09-0783P). | The Honorable Vaughn Hartung, Chair, Board of Commissioners, Washoe County, 1001 East 9th Street, Reno, NV 89512. | Washoe County Administration Building, Department of Public Works, 1001 East 9th Street, Reno, NV 89512. | Jul. 20, 2023 | 320019
New Jersey:
Monmouth (FEMA Docket No.: B-2358). | Township of Neptune (22-02-0510P). | The Honorable Keith Cafferty, Mayor, Township of Neptune, P.O. Box 1125, Neptune, NJ 07754. | Township Hall, Construction Department, 25 Neptune Boulevard, Neptune, NJ 07753. | Oct. 19, 2023 | 340317
Monmouth (FEMA Docket No.: B-2358). | Township of Wall (22-02-0510P). | The Honorable Timothy J. Farrell, Mayor, Township of Wall, 2700 Allaire Road, Wall, NJ 07719. | Township Hall, Municipal Building, 2700 Allaire Road, Wall, NJ 07719. | Oct. 19, 2023 | 340333
New York:
Clinton (FEMA Docket No.: B-2338). | Town of Black Brook (23-02-0220P). | Jon Douglass, Supervisor, Town of Black Brook, P.O. Box 715, AuSable Forks, NY 12912. | Town Hall, 18 North Main Street, AuSable Forks, NY 12912. | Sep. 21, 2023 | 361309
Orange (FEMA Docket No.: B-2338). | Town of Goshen (23-02-0099P). | Joseph Betro, Town Supervisor, Town of Goshen, 41 Webster Avenue, Goshen, NY 10924. | Town Hall, 41 Webster Avenue, Goshen, NY 10924. | Sep. 21, 2023 | 360614
Orange (FEMA Docket No.: B-2338). | Village of Goshen (23-02-0099P). | The Honorable Scott Wohl, Mayor, Village of Goshen, Board of Trustees, 276 Main Street, Goshen, NY 10924. | Village Hall, 276 Main Street, Goshen, NY 10924. | Sep. 21, 2023 | 361571
Ohio:
Licking (FEMA Docket No.: B-2338). | Unincorporated Areas of Licking County (22-05-2046P). | Timothy E. Bubb, President, Board of Licking County Commissioners, County Administration Building, 20 South Second Street, Newark, OH 43055. | Licking County Administration Building, 20 South Second Street, Newark, OH 43055. | Jul. 18, 2023 | 390328
Warren (FEMA Docket No.: B-2349). | City of South Lebanon (22-05-2951P). | The Honorable James Smith, Mayor, City of South Lebanon, 10 North High Street, South Lebanon, OH 45065. | Administration Building, 10 North High Street, South Lebanon, OH 45065. | Sep. 5, 2023 | 390563
Warren (FEMA Docket No.: B-2349). | Unincorporated Area of Warren County (22-05-2951P). | Tom Grossmann, Commissioner, Warren County Board of County Commissioners, 406 Justice Drive, Lebanon, OH 45036. | Warren County Regional Planning Commission, 406 Justice Drive, Lebanon, OH 45036. | Sep. 5, 2023 | 390757
Oregon:
Josephine (FEMA Docket No.: B-2349). | Unincorporated Areas of Josephine County (22-10-0743P). | Herman Baertschiger, Jr., Chair, Josephine County Board of Commissioners, Josephine County Courthouse, 500 Northwest 6th Street, Grant Pass, OR 97526. | Josephine County Planning Department, 700 Northwest Dimmick Street, Suite C, Grant Pass, OR 97526. | Aug. 10, 2023 | 415590
Washington (FEMA Docket No.: B-2358). | City of Beaverton (22-10-0942P). | The Honorable Lacey Beaty, Mayor, City of Beaverton, 12725 Southwest Millikan Way, 5th Floor, Beaverton, OR 97076. | Community Development Department, 12725 Southwest Millikan Way, Beaverton, OR 97076. | Sep. 29, 2023 | 410240
Tennessee: Shelby (FEMA Docket No.: B-2338). | City of Memphis (22-04-5686P). | The Honorable Jim Strickland, Mayor, City of Memphis, City Hall, 125 North Main Street, Room 700, Memphis, TN 38103. | Department of Engineering, 125 North Main Street, Room 476, Memphis, TN 38103. | Aug. 3, 2023 | 470177
Texas:
Dallas (FEMA Docket No.: B-2349). | City of Wilmer (22-06-0840P). | The Honorable Sheila Petta, Mayor, City of Wilmer, 128 North Dallas Avenue, Wilmer, TX 75172. | Dallas County Public Works Department, 411 Elm Street, 4th Floor, Dallas, TX 75202. | Sep. 8, 2023 | 480190
Montgomery (FEMA Docket No.: B-2349) | Unincorporated Areas of Montgomery County (22-06-1749P). | The Honorable Mark B. Keough, County Judge, Montgomery County, 501 North Thompson, Suite 401, Conroe, TX 77301. | Montgomery County Administration Building, 501 North Thompson, Suite 401, Conroe, TX 77301. | Sep. 11, 2023 | 480483
Tarrant (FEMA Docket No.: B-2349) | City of Arlington (22-06-2387P). | The Honorable Jim Ross, Mayor, City of Arlington, P.O. Box 90231, Arlington, TX 76010. | City Hall, 101 West Abram Street, Arlington, TX 76010. | Aug. 31, 2023 | 485454
Tarrant (FEMA Docket No.: B-2338). | City of North Richland Hills (21-06-1861P). | The Honorable Oscar Trevino, Jr., Mayor, City of North Richland Hills, 4301 City Point Drive, North Richland Hills, TX 76180. | City Hall, 4301 City Point Drive, North Richland Hills, TX 76180. | Jul. 17, 2023 | 480607
Virginia: Independent City (FEMA Docket No.: B-2358). | City of Virginia Beach (22-03-0299P). | The Honorable Robert Dyer, Mayor, City of Virginia Beach, City Hall, 2401 Courthouse Drive Building #1, Virginia Beach, VA 23456. | Department of Public Works, 2405 Courthouse Drive Building 1, Municipal Center Building #2, Virginia Beach, VA 23456. | Sep. 27, 2023 | 515531
Wisconsin:
Brown (FEMA Docket No.: B-2349). | City of De Pere (23-05-0990P). | The Honorable James Boyd, Mayor, City of De Pere, City Hall, 335 South Broadway, De Pere, WI 54115. | City Hall, 335 South Broadway, De Pere, WI 54115. | Sep. 25, 2023 | 550021
Brown (FEMA Docket No.: B-2349). | City of Green Bay (23-05-0990P). | The Honorable Eric Genrich, Mayor, City of Green Bay, City Hall, 100 North Jefferson Street, Green Bay, WI 54301. | City Hall, 100 North Jefferson Street, Green Bay, WI 54301. | Sep. 25, 2023 | 550022
Brown (FEMA Docket No.: B-2358). | Unincorporated Areas of Brown County (20-05-4610P). | Patrick Buckley, Chair, Brown County Board of Supervisors, 305 East Walnut Street, Green Bay, WI 54305. | Brown County Office Northern Building, 305 East Walnut Street, Room 320, Green Bay, WI 54301. | Oct. 31, 2023 | 550020
Brown (FEMA Docket No.: B-2349). | Village of Ashwaubenon (23-05-0990P). | The Honorable Mary Kardoskee, President, Village of Ashwaubenon, 2155 Holmgren Way, Ashwaubenon, WI 54304. | Village Hall, 2155 Holmgren Way, Ashwaubenon, WI 54304. | Sep. 25, 2023 | 550600
Kenosha (FEMA Docket No.: B-2349). | Village of Somers (22-05-3273P). | The Honorable George Stoner, President, Board of Trustees, Village of Somers, 135 22nd Avenue, Kenosha, WI 53140. | Village Hall, 7511 12th Street, Kenosha, WI 53144. | Aug. 16, 2023 | 550406
Washington: King (FEMA Docket No.: B-2338). | City of Shoreline (22-10-0967P). | The Honorable Keith Scully, Mayor, City of Shoreline, 17500 Midvale Avenue North, Shoreline, WA 98133. | City Hall, Planning and Community Development Department, 17500 Midvale Avenue North, Shoreline, WA 98133. | Jul. 17, 2023 | 530327

[FR Doc. 2024-00063 Filed 1-4-24; 8:45 am]

BILLING CODE 9110-12-P